DEPARTMENT OF HOMELAND SECURITY

Coast Guard

33 CFR Part 117

[Docket No. USCG-2014-0203]

Drawbridge Operation Regulation; Narrow Bay, Suffolk County, NY

AGENCY: Coast Guard, DHS.

ACTION: Notice of deviation from drawbridge regulation.

SUMMARY: The Coast Guard has issued a temporary deviation from the operating schedule that governs the Smith Point Bridge across Narrow Bay, mile 6.1, between Smith Point and Fire Island, New York. The deviation is necessary to facilitate public safety during a public event, the Mastic Peninsula Multi-Sport Triathlon. This temporary deviation authorizes the Smith Point Bridge to remain in the closed position for two hours to facilitate public safety during a public event.

DATES: This deviation is effective from 7 a.m. through 9 a.m. on June 1, 2014.

ADDRESSES: The docket for this deviation, USCG-2014-0203 is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, telephone (212) 668-7165, email judy.k.leung-yee@uscg.mil. If you have questions on viewing the docket, call Cheryl Collins, Program Manager, Docket Operations, telephone 202-366-9826.

SUPPLEMENTARY INFORMATION: The Smith Point Bridge at mile 6.1, across Narrow Bay, between Smith Point and Fire Island, New York, has 18 feet of vertical clearance at mean high water and 19 feet of vertical clearance at mean low water. The existing drawbridge operation regulations are listed at 33 CFR 117.799(d).

The owner of the bridge, the County of Suffolk Department of Public Works, requested a temporary deviation from the drawbridge operation regulations to facilitate a public event, the Mastic Peninsula Multi-Sport Triathlon.

The waterway has seasonal recreational vessels traffic of various sizes.

Under this temporary deviation the Smith Point Bridge at mile 6.1, across Narrow Bay between Smith Point and Fire Island, New York, may remain in the closed position from 7 a.m. through 9 a.m. on June 1, 2014.

Vessels able to pass under the bridge in the closed position without a bridge opening may do so at all times. There are no alternate routes for vessels to transit.

The Coast Guard will also inform the users of the waterways through our Local and Broadcast Notice to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: April 1, 2014.
C.J. Bisignano,
Supervisory Bridge Management Specialist, First Coast Guard District.

[FR Doc. 2014-08242 Filed 4-11-14; 8:45 am]

BILLING CODE 9110-04-P